DEPARTMENT OF TRANSPORTATION

Federal Aviation Administration

14 CFR Part 71

[Docket No. FAA-2017-0347; Airspace Docket No. 17-AAL-3]

RIN 2120-AA66

Modification of Class E Airspace for the Following Alaska Towns; Hooper Bay, AK; Kaltag, AK; King Salmon, AK; Kodiak, AK; Manokotak, AK; and Middleton Island, AK

AGENCY: Federal Aviation Administration (FAA), DOT.

ACTION: Final rule.

SUMMARY: This action modifies Class E airspace extending upward from 1,200 feet above the surface at Hooper Bay Airport, AK; Kaltag Airport, AK; King Salmon Airport, AK; Kodiak Airport, AK; Manokotak Airport, AK; and Middleton Island Airport, AK. This action adds exclusionary language to the legal descriptions of these airports to exclude Class E airspace extending beyond 12 miles from the shoreline and ensures the safety and management of aircraft within the National Airspace System. Also, an editorial change is made in the airspace designation for King Salmon Airport. This action also corrects an error in the coordinates of Kodiak Airport and the Middleton Island VOR/DME.

DATES: Effective 0901 UTC, June 20, 2019. The Director of the Federal Register approves this incorporation by reference action under Title 1 Code of Federal Regulations part 51, subject to the annual revision of FAA Order 7400.11 and publication of conforming amendments.

ADDRESSES: FAA Order 7400.11C, Airspace Designations and Reporting Points, and subsequent amendments can be viewed online at http://www.faa.gov/air_traffic/publications/. For further information, you can contact the Airspace Policy Group, Federal Aviation Administration, 800 Independence Avenue SW, Washington, DC 20591; telephone: (202) 267-8783. The Order is also available for inspection at the National Archives and Records Administration (NARA). For information on the availability of this material at NARA, call (202) 741-6030, or go to https://www.archives.gov/federal-register/cfr/ibr-locations.html.

FAA Order 7400.11, Airspace Designations and Reporting Points, is published yearly and effective on September 15.

FOR FURTHER INFORMATION CONTACT: Bonnie Malgarini, Federal Aviation Administration, Operations Support Group, Western Service Center, 2200 S 216th Street, Des Moines, WA 98198; telephone (206) 231-2329.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of airspace necessary to ensure the safety of aircraft and the efficient use of airspace. This regulation is within the scope of that authority as it amends Class E airspace extending upward from 1,200 feet above the surface at Kaltag Airport, AK, King Salmon Airport, AK, Kodiak Airport, AK, Manokotak Airport, AK, Middleton Island Airport, AK, and Hooper Bay Airport, AK, to support IFR operations in standard instrument approach and departure procedures at these airports.

History

The FAA published a notice of proposed rulemaking (NPRM) in the Federal Register (83 FR 64491; December 17, 2018) for Docket No. FAA-2017-0347 to modify Class E Airspace for the following Alaska Towns: Hooper Bay, AK; Kaltag, AK; King Salmon, AK; Kodiak, AK; Manokotak, AK; and Middleton Island, AK. Interested parties were invited to participate in this rulemaking effort by submitting written comments on the proposal to the FAA. No comments were received.

Subsequent to publication, typographical error were discovered in the coordinates of the Kodiak Airport and the Middleton Island VOR/DME. The latitude coordinate of “lat. 57°45′00″ N” for Kodiak Airport is amended to “lat. 57°44′59″ N” and the latitude coordinate of “lat. 59°25′19″ N” for Middleton Island VOR/DME is amended to “lat. 59°25′18″ N” to correct the errors.

Class E airspace designations are published in paragraph 6005 of FAA Order 7400.11C, dated August 13, 2018, and effective September 15, 2018, which is incorporated by reference in 14 CFR 71.1. The Class E airspace designation listed in this document will be published subsequently in the Order.

Availability and Summary of Documents for Incorporation by Reference

This document amends FAA Order 7400.11C, Airspace Designations and Reporting Points, dated August 13, 2018, and effective September 15, 2018. FAA Order 7400.11C is publicly available as listed in the ADDRESSES section of this document. FAA Order 7400.11C lists Class A, B, C, D, and E airspace areas, air traffic service routes, and reporting points.

The Rule

This amendment to Title 14 Code of Federal Regulations (14 CFR) part 71 modifies Class E airspace extending upward from 1,200 feet above the surface at Hooper Bay Airport, AK; Kaltag Airport, AK; King Salmon Airport, AK; Kodiak Airport, AK; Manokotak Airport, AK; and Middleton Island Airport, AK. This action adds language to the legal descriptions of these airports that reads “excluding that airspace that extends beyond 12 miles from the shoreline.”

Regulatory Notices and Analyses

The FAA has determined that this regulation only involves an established body of technical regulations for which frequent and routine amendments are necessary to keep them operationally current, is non-controversial and unlikely to result in adverse or negative comments. It, therefore: (1) Is not a “significant regulatory action” under Executive Order 12866; (2) is not a “significant rule” under DOT Regulatory Policies and Procedures (44 FR 11034; February 26, 1979); and (3) does not warrant preparation of a Regulatory Evaluation as the anticipated impact is so minimal. Since this is a routine matter that only affects air traffic procedures and air navigation, it is certified that this rule, when promulgated, will not have a significant economic impact on a substantial number of small entities under the criteria of the Regulatory Flexibility Act.

Environmental Review

The FAA has determined that this action qualifies for categorical exclusion under the National Environmental Policy Act in accordance with FAA Order 1050.1F, “Environmental Impacts: Policies and Procedures,” paragraph 5-6.5a. This airspace action is not expected to cause any potentially significant environmental impacts, and no extraordinary circumstances exist that warrant preparation of an environmental assessment.

Lists of Subjects in 14 CFR Part 71

Airspace, Incorporation by reference, Navigation (air).

Adoption of the Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(f), 106(g); 40103, 40113, 40120; E.O. 10854, 24 FR 9565, 3 CFR, 1959-1963 Comp., p. 389.

§ 71.1 [Amended]

2. The incorporation by reference in 14 CFR 71.1 of FAA Order 7400.11C, Airspace Designations and Reporting Points, dated August 13, 2018, and effective September 15, 2018, is amended as follows:

Paragraph 6005 Class E Airspace Areas Extending Upward From 700 Feet or More Above the Surface of the Earth.

* * * * *

AAL AK E5 Hooper Bay, AK [Amended]

Hooper Bay Airport, AK

(Lat. 61°31′26″ N, long. 166°08′48″ W)

That airspace extending upward from 700 feet above the surface within a 6.3-mile radius of Hooper Bay Airport; and that airspace extending upward from 1,200 feet above the surface within a 45-mile radius of Hooper Bay Airport, excluding that airspace extending beyond 12 miles from the shoreline.

AAL AK E5 Kaltag, AK [Amended]

Kaltag Airport, AK

(Lat. 64°19′08″ N, long. 158°44′29″ W)

That airspace extending upward from 700 feet above the surface within a 7.6-mile radius of Kaltag Airport, and that airspace extending upward from 1,200 feet above the surface within a 72-mile radius of the Kaltag Airport, excluding that airspace extending beyond 12 miles from the shoreline.

AAL AK E5 King Salmon, AK [Amended]

King Salmon, King Salmon Airport, AK

(Lat. 58°40′35″ N, long. 156°38′55″ W)

King Salmon VORTAC

(Lat. 58°43′29″ N, long. 156°45′08″ W)

That airspace extending upward from 700 feet above the surface within a 6.9-mile radius of King Salmon Airport, AK, and within 5 miles north and 9 miles south of the 132° radial of the King Salmon VORTAC, AK, extending from the King Salmon VORTAC, AK, to 36 miles southeast of the King Salmon VORTAC, AK, and within 3.9 miles either side of the 312° radial of the King Salmon VORTAC, AK, extending from the 6.9-mile radius to 13.9 miles northwest of the King Salmon VORTAC, AK; and that airspace extending upward from 1,200 feet above the surface within a 73-mile radius of the King Salmon Airport, AK, excluding that airspace extending beyond 12 miles of the shoreline.

AAL AK E5 Kodiak, AK [Amended]

Kodiak Airport, AK

(Lat. 57°44′59″ N, long. 152°29′38″ W)

That airspace extending upward from 700 feet above the surface within an 6.9-mile radius of Kodiak Airport, AK, and within 3.1 miles either side of the 072° bearing from Kodiak Airport, AK, extending from the 6.9-mile radius from the airport, to 12.2 miles east of the airport, and within 1 mile either side of the 091° bearing from Kodiak Airport, AK, extending from the 6.9-mile radius from the airport, to 8.2 miles east of the airport, and that airspace extending upward from 1,200 feet above the surface within a 73-mile radius of the Kodiak Airport, AK, excluding that airspace extending beyond 12 miles of the shoreline.

AAL AK E5 Manokotak, AK [Amended]

Manokotak Airport, AK

(Lat. 58°55′55″ N, long. 158°54′07″ W)

That airspace extending upward from 700 feet above the surface within a 6.4-mile radius of Manokotak Airport, AK; and that airspace extending upward from 1,200 feet above the surface within a 74-mile radius of Manokotak Airport, AK, excluding that airspace extending beyond 12 miles of the shoreline.

AAL AK E5 Middleton Island, AK [Amended]

Middleton Island Airport, AK

(Lat. 59°27′00″ N, long. 146°18′26″ W)

Middleton Island VOR/DME

(Lat. 59°25′18″ N, long. 146°21′00″ W)

That airspace extending upward from 700 feet above the surface within a 6.5-mile radius of Middleton Island Airport, and within 4 miles either side of the 038° radial of the Middleton Island VOR/DME extending from the 6.5-mile radius to 12 miles northeast of the VOR/DME, and that airspace extending upward from 1,200 feet above the surface within a 42-mile radius of the Middleton Island VOR/DME, excluding that airspace extending beyond 12 miles of the shoreline.

Issued in Seattle, Washington, on February 20, 2019.
Shawn M. Kozica,
Group Manager, Operations Support Group, Western Service Center.

[FR Doc. 2019-03837 Filed 3-4-19; 8:45 am]

BILLING CODE 4910-13-P